ENVIRONMENTAL PROTECTION AGENCY

40 CFR Parts 85 and 86

[EPA-HQ-OAR-2022-0829; FRL-8953-05-OAR]

RIN 2060-AV49

Multi-Pollutant Emissions Standards for Model Years 2027 and Later Light-Duty and Medium-Duty Vehicles; Correction

AGENCY: Environmental Protection Agency (EPA).

ACTION: Final rule; correction.

SUMMARY: The Environmental Protection Agency (EPA) is correcting a final rule published in the Federal Register of April 18, 2024, which will be effective June 17, 2024. The final rule established new emission standards for light-duty and medium-duty motor vehicles. This document corrects inadvertent errors introduced in preparing the regulatory text for publication. These corrections do not include any substantives change to the final rule.

DATES: This correction is effective June 17, 2024.

ADDRESSES: EPA has established a docket for this action under Docket ID No. EPA-HQ-OAR-2022-0829. Publicly available docket materials are available either electronically at www.regulations.gov or in hard copy at Air and Radiation Docket and Information Center, EPA Docket Center, EPA/DC, EPA WJC West Building, 1301 Constitution Ave. NW, Room 3334, Washington, DC.

FOR FURTHER INFORMATION CONTACT: Alan Stout, Assessment and Standards Division, Office of Transportation and Air Quality, Environmental Protection Agency, 2000 Traverwood Drive, Ann Arbor, MI 48105; telephone number: (734) 214-4805; email address: stout.alan@epa.gov.

SUPPLEMENTARY INFORMATION: EPA is making the following corrections for inadvertent errors in the regulatory text for the final rule:

• Revising 40 CFR 85.2103(c) to remove references to a nonexistent paragraph (e).

• Revising 40 CFR 86.1 to remove references to nonexistent sections 86.1823-01, 86.1824-01, and 86.1825-01.

• Revising 40 CFR 86.1806-27(a)(7) by referring to California's LEV standards in general instead of specifically to the LEV III standards.

• Restoring the content of 40 CFR 86.1818-12(c)(4), which was inadvertently over-written by re-organizing the section content. The paragraph is moved to 40 CFR 86.1818-12(a)(4). The restored paragraph describes an option for waiving greenhouse gas standards for emergency vehicles.

• Eliminating the specific paragraph reference for battery-related testing in 40 CFR 86.1829-15(a)(2)(ii). The intended reference was to all of 40 CFR 86.1815-27, where we discuss the range of battery-related testing requirements that apply. We note especially that battery-related testing requirements apply differently for vehicles certified based on California procedures as specified in 40 CFR 86.1815-27(h).

Section 553(b)(B) of the Administrative Procedure Act, 5 U.S.C. 553(b)(B), provides that, when an agency for good cause finds that public notice and comment procedures are impracticable, unnecessary, or contrary to the public interest, the agency may issue a rule without providing notice and an opportunity for public comment. EPA has determined that there is good cause for making this technical correction final without prior proposal. Such notice and opportunity for comment is unnecessary as the technical corrections are for minor typographical and other nonsubstantive errors made in the final rule.

This final rule is effective June 17, 2024. Section 553(d)(3) of the Administrative Procedure Act (“APA”), 5 U.S.C. 553(d), provides that final rules shall not become effective until 30 days after publication in the Federal Register “except . . . as otherwise provided by the agency for good cause.” The purpose of this provision is to “give affected parties a reasonable time to adjust their behavior before the final rule takes effect.” Omnipoint Corp. v. Fed. Commc'n Comm'n, 78 F.3d 620, 630 (D.C. Cir. 1996); see also United States v. Gavrilovic, 551 F.2d 1099, 1104 (8th Cir. 1977) (quoting legislative history). Thus, in determining whether good cause exists to waive the 30-day delay, an agency should “balance the necessity for immediate implementation against principles of fundamental fairness which require that all affected persons be afforded a reasonable amount of time to prepare for the effective date of its ruling.” Gavrilovic, 551 F.2d at 1105. EPA has determined that there is good cause for making this final rule effective less than 30 days after publication in the Federal Register because the technical corrections are for minor typographical and other nonsubstantive errors made in the final rule, these corrections will address potential confusion for regulated entities that could result if these errors introduced during preparation for publication are not corrected prior to the effective date of the final rule published in the Federal Register of Monday, April 18, 2024, and further time is not needed for regulated entities to prepare for such corrections prior to the effective date given the nature of the corrections.

For these reasons, the agency finds that good cause exists under APA section 553(d)(3) to make this rule effective June 17, 2024.

Corrections

In FR Doc. 2024-06214 beginning on page 27842 in the Federal Register of April 18, 2024, EPA is making the following corrections:

1. On pages 28152 and 28153, in § 85.2103, correct paragraphs (c)(1) and (2) to read as follows:

§ 85.2103 [Corrected]

* * * * *

(c) * * *

(1) For light-duty vehicles, light-duty trucks, and medium-duty passenger vehicles, the warranty period for the emission performance warranty is 24 months or 24,000 miles, except that the warranty period is 8 years or 80,000 miles for any nonconformity resulting from a failed specified major emission control component identified in paragraph (d) of this section.

(2) For medium-duty vehicles, the warranty period for the emission performance warranty is 5 years or 50,000 miles, except that the warranty period is 8 years or 80,000 miles for any nonconformity resulting from a failed specified major emission control component identified in paragraph (d) of this section.

* * * * *

2. On pages 28154 and 28155, in § 86.1, correct paragraph (a)(21) to read as follows:

§ 86.1 [Corrected]

* * * * *

(a) * * *

(21) ASTM E29-93a, Standard Practice for Using Significant Digits in Test Data to Determine Conformance with Specifications, approved March 15, 1993 (“ASTM E29”); IBR approved for §§ 86.004-15(c); 86.007-11(a); 86.007- 15(m); 86.1803-01.

* * * * *

3. On page 28160, in the third column, in § 86.1806-27, correct paragraph (a)(7) to read as follows:

§ 86.1806-27 [Corrected]

* * * * *

(a) * * *

(7) Apply thresholds for exhaust emission malfunctions from Tier 4 vehicles based on the thresholds calculated for the corresponding bin standards in the California LEV program as prescribed for the latest model year in 13 CCR 1968.2(d). For example, for Tier 4 Bin 10 standards, apply the threshold that applies for the LEV standards. For cases involving Tier 4 standards that have no corresponding bin standards from the California LEV program, use the monitor threshold for the next highest LEV bin. For example, for Tier 4 Bin 5 and Bin 10 standards, apply a threshold of 50 mg/mile (15 mg/mile × 3.33). You may apply thresholds that are more stringent than we require under this paragraph (a)(7).

* * * * *

4. On page 28169, in the second column, in § 86.1818-12, add paragraph (a)(4) to read as follows:

§ 86.1818-12 [Corrected]

(a) * * *

(4) Emergency vehicles may be excluded from the emission standards described in this section. The manufacturer must notify the Administrator that they are making such an election in the model year reports required under 40 CFR 600.512-12. Exclude such vehicles from both the calculation of the fleet average standard for a manufacturer under paragraph (c) of this section and from the calculation of the fleet average carbon-related exhaust emissions in 40 CFR 600.510-12.

* * * * *

5. On page 28178, in the first column, in § 86.1829-15, correct paragraph (a)(2)(ii) to read as follows:

§ 86.1829 [Corrected]

* * * * *

(a) * * *

(2) * * *

(ii) Manufacturers must perform battery durability testing as described in § 86.1815-27.

* * * * *

Joseph Goffman,
Assistant Administrator, Office of Air and Radiation.

[FR Doc. 2024-12590 Filed 6-12-24; 8:45 am]

BILLING CODE 6560-50-P